DEPARTMENT OF ENERGY

Federal Energy Regulatory Commission

18 CFR Part 40

[Docket No. RM06-22-000]

Mandatory Reliability Standards for Critical Infrastructure Protection; Notice of Extension of Time

Issued October 10, 2008.

AGENCY: Federal Energy Regulatory Commission.

ACTION: Order on Proposed Clarification: Extension of comment date.

SUMMARY: On September 18, 2008, the Commission issued an order proposing to clarify that the facilities within a nuclear generation plant in the United States that are not regulated by the U.S. Nuclear Regulatory Commission are subject to compliance with the eight mandatory “CIP” Reliability Standards approved in Commission Order No. 706. The date for filing comments on the Commission's proposal is being extended at the request of the Edison Electric Institute and the Nuclear Energy Institute.

DATES: Comments are due November 3, 2008.

ADDRESSES: You may submit comments, identified by docket number by any of the following methods:

• Agency Web Site: http://ferc.gov. Documents created electronically using word processing software should be filed in native applications or print-to-PDF format and not in a scanned format.

• Mail/Hand Delivery: Commenters unable to file comments electronically must mail or hand-deliver an original and 14 copies of their comments to: Federal Energy Regulatory Commission, Secretary of the Commission, 888 First Street, NE., Washington, DC 20426.

FOR FURTHER INFORMATION CONTACT: Jonathan First (Legal Information), Office of General Counsel, 888 First Street, NE., Washington, DC 20426, (202) 502-8529; Regis Binder (Technical Information), Office of Electric Reliability, 888 First Street, NE., Washington, DC 20426, (202) 502-6460.

SUPPLEMENTARY INFORMATION: On October 10, 2008, the Edison Electric Institute (EEI) and the Nuclear Energy Institute (NEI) filed a joint motion for an extension of time to file comments in response to the Commission's Order on Proposed Clarification issued September 18, 2008, in the above-referenced proceeding. (Mandatory Reliability Standards for Critical Infrastructure Protection, 124 FERC ¶ 61,247 (2008) (Proposed Clarification)). EEI and NEI state that because a majority of their members will be required to implement CIP Reliability Standards and NRC cybersecurity requirements in accordance with the clarification to be issued in this docket and because of the complex of the issues addressed in the Proposed Clarification, additional time is needed to submit well-developed comments.

Upon consideration, notice is hereby given that an extension of time for filing comments is granted to and including November 3, 2008.

Nathaniel J. Davis, Sr.,
Deputy Secretary.

[FR Doc. E8-24630 Filed 10-17-08; 8:45 am]

BILLING CODE 6717-01-P